DEPARTMENT OF AGRICULTURE

Foreign Agricultural Service

Advisory Committee on Emerging Markets: Nominations

SUMMARY: Notice is hereby given that nominations are being sought for twenty (20) qualified persons to serve on the Advisory Committee on Emerging Markets (the Committee). The role of the Committee is to provide information and advice, based upon knowledge and expertise of the members, useful to the Department of Agriculture (USDA) in implementing the Emerging Markets Program (EMP). The Committee also advises USDA on ways to increase the involvement of the U.S. private sector in emerging markets in food and rural business systems and reviews proposals submitted to the Program for funding technical assistance activities.

DATES: Written nominations must be received by the Foreign Agricultural Service (FAS) by 5 p.m. on January 22, 2007.

ADDRESSES: All nominating materials should be sent to Ms. Nancy Hirschhorn, Foreign Agricultural Service, Stop 1052, U.S. Department of Agriculture, 1400 Independence Avenue, SW., Washington, DC 20250-1052. Forms may also be submitted by fax to (202) 690-0193.

FOR FURTHER INFORMATION CONTACT: Persons interested in serving on the Committee, or in nominating individuals to serve, should contact Ms. Nancy Hirschhorn, Foreign Agricultural Service, by telephone (202) 720-6896, by fax (202) 690-0193, or by electronic mail to emo@fas.usda.gov and request Form AD-755 and Form SF-181. Persons with disabilities who require an alternative means for communication of information (Braille, large print, audiotape, etc.) should contact USDA's Target Center at (202) 720-2600 (voice and TDD).

SUPPLEMENTARY INFORMATION: The Committee is authorized by section 1542 of the Food, Agriculture, Conservation and Trade Act of 1990, as amended. The overall purpose of the Committee is to provide USDA with information that may be useful in carrying out the provisions of the Emerging Markets Program. The Committee is composed of representatives of the various sectors of the food and rural business systems of the United States. More information about the purpose and function of the Committee and about the Emerging Markets Program may be found at the FAS/Emerging Markets Program Web site: http://www.fas.usda.gov/mos/em-markets/em-markets.asp. Form AD-755 is required and is available on the EMP home page at http://www.fas.usda.gov/mos/em-markets/Form%20AD-755.doc. Form SF-181 is requested, but optional, and is available at http://www.opm.gov/forms/pdf_fill/sf181.pdf. The members of the Committee are appointed by the Secretary of Agriculture and serve at the discretion of the Secretary. Committee members serve without compensation, but can receive reimbursement for travel expenses to attend committee meetings, if requested, in accordance with USDA travel regulations.

The Committee has a balanced membership of up to 20 members, representing a broad cross-section of the U.S. agricultural and agribusiness industry. All appointments will expire two years from the date of appointment. The Secretary may renew an appointment for one or more additional terms.

Most meetings will be held in Washington, DC, though other locations may be selected on an occasional basis. Committee meetings will be open to the public, unless the Secretary of Agriculture determines that the Committee will be discussing issues, the disclosure of which justify closing all or a portion of a meeting, in accordance with 5 U.S.C. 552b(c).

Nominations are open to all individuals without regard to race, color, religion, sex, national origin, age, physical handicap, marital status, or sexual orientation. To ensure that the work of the Committee takes into account the needs of the diverse groups served by USDA, membership shall include, to the extent practicable, individuals with demonstrated ability to represent the interest of minorities, women, and persons with disabilities.

Members should have experience, expertise, and knowledge of international agriculture and of trade and development issues as they affect emerging markets. No persons, company, producer, farm organization, trade association, or other entity has a right to representation on the Committee. In making selections, every effort will be made to maintain balanced representation of the various broad industries within the United States as well as geographic diversity.

W. Kirk Miller,
Acting Administrator, Foreign Agricultural Service.

[FR Doc. 06-9828 Filed 12-21-06; 8:45 am]

BILLING CODE 3410-10-M